SOCIAL SECURITY ADMINISTRATION

Rate for Attorney Fee Assessment Beginning in 2002

AGENCY: Social Security Administration (SSA).

ACTION: Notice.

SUMMARY: The Social Security Administration is announcing that the attorney-fee assessment rate under section 206(d) of the Social Security Act, 42 U.S.C. 406(d), is 6.3 percent for 2002.

FOR FURTHER INFORMATION CONTACT: John B. Watson, Social Security Administration, Office of the General Counsel, Phone: (410) 965-3137, email: John.Watson@ssa.qov.

SUPPLEMENTARY INFORMATION: Section 406 of Public Law No. 106-170, the Ticket to Work and Work Incentives Improvement Act of 1999, established an assessment for the services required to determine and certify payments to attorneys from the benefits due claimants under Title II of the Act. This provision is codified in section 206 of the Act (42 U.S.C. 406). The legislation set the assessment for the calendar year 2000 at 6.3 percent of the amount that would be required to be certified for direct payment to the attorney under either section 206(a)(4) or 206(b)(1) before the application of the assessment. For subsequent years, the legislation requires the Commissioner of Social Security to determine the percentage rate necessary to achieve full recovery of the costs of determining and certifying fees to attorneys, but not in excess of 6.3 percent. For 2001, the Commissioner of Social Security determined that the assessment rate under section 206(d) of the Act would be 6.3 percent. (See 66 FR 5521, January 19, 2001).

The Commissioner of Social Security has determined, based on the best available data, that the current rate of 6.3 percent will continue for 2002. This assessment rate was based on information compiled by a private contractor, KPMG Consulting, who were tasked by the Social Security Administration to determine the costs we incur to determine and certify fees to attorneys. We will continue to review our costs on a yearly basis.

Thomas G. Stapleton,
Acting Deputy Commissioner for Finance, Assessment and Management.

[FR Doc. 02-27 Filed 1-2-02; 8:45 am]

BILLING CODE 4191-02-U